DEPARTMENT OF ENERGY

Federal Energy Regulatory Commission

Combined Notice of Filings

Take notice that the Commission has received the following Natural Gas Pipeline Rate and Refund Report filings:

Filings in Existing Proceedings

Docket Numbers: RP17-913-007.

Applicants: Natural Gas Pipeline Company of America LLC.

Description: Compliance filing: NGPL Fuel Transparency Report Informational Filing 2022 to be effective N/A.

Filed Date: 8/1/22.

Accession Number: 20220801-5115.

Comment Date: 5 p.m. ET 8/15/22.

Docket Numbers: RP21-525-006.

Applicants: Midwestern Gas Transmission Company.

Description: Refund Report: Refund Report to be effective N/A.

Filed Date: 7/29/22.

Accession Number: 20220729-5104.

Comment Date: 5 p.m. ET 8/10/22.

Docket Numbers: RP22-501-002.

Applicants: ANR Pipeline Company.

Description: Compliance filing: ANR Section 4 Rate Case Compliance RP22-501 to be effective 8/1/2022.

Filed Date: 7/29/22.

Accession Number: 20220729-5023.

Comment Date: 5 p.m. ET 8/10/22.

Any person desiring to protest in any the above proceedings must file in accordance with Rule 211 of the Commission's Regulations (18 CFR 385.211) on or before 5:00 p.m. Eastern time on the specified comment date.

Filings Instituting Proceedings

Docket Numbers: PR22-57-000.

Applicants: Black Hills/Kansas Gas Utility Company, LLC.

Description: § 284.123 Rate Filing: BHKG Revised Statement of Rates to be effective 8/1/2022.

Filed Date: 8/1/22.

Accession Number: 20220801-5205.

Comments/Protest Due: 5 p.m. ET 8/22/22.

Docket Numbers: RP22-1081-000.

Applicants: Ruby Pipeline, L.L.C.

Description: § 4(d) Rate Filing: FLU_EPC Recomputation Update Filing to be effective 9/1/2022.

Filed Date: 7/29/22.

Accession Number: 20220729-5082.

Comment Date: 5 p.m. ET 8/10/22.

Docket Numbers: RP22-1082-000.

Applicants: MountainWest Overthrust Pipeline, LLC.

Description: Annual Fuel Gas Reimbursement Report of MountainWest Overthrust Pipeline, LLC Company under RP22-1082.

Filed Date: 7/29/22.

Accession Number: 20220729-5086.

Comment Date: 5 p.m. ET 8/10/22.

Docket Numbers: RP22-1083-000.

Applicants: Kern River Gas Transmission Company.

Description: § 4(d) Rate Filing: 2022 Housekeeping to be effective 9/1/2022.

Filed Date: 7/29/22.

Accession Number: 20220729-5090.

Comment Date: 5 p.m. ET 8/10/22.

Docket Numbers: RP22-1084-000.

Applicants: Colorado Interstate Gas Company, L.L.C.

Description: § 4(d) Rate Filing: Non-Conforming Agreement Update (Anadarko) to be effective 9/1/2022.

Filed Date: 7/29/22.

Accession Number: 20220729-5103.

Comment Date: 5 p.m. ET 8/10/22.

Docket Numbers: RP22-1085-000.

Applicants: Columbia Gulf Transmission, LLC.

Description: § 4(d) Rate Filing: Neg Rate NC Service Amendment—Kaiser 174463(3) to be effective 8/1/2022.

Filed Date: 7/29/22.

Accession Number: 20220729-5107.

Comment Date: 5 p.m. ET 8/10/22.

Docket Numbers: RP22-1086-000.

Applicants: Trailblazer Pipeline Company LLC.

Description: § 4(d) Rate Filing: TPC 2022-07-29 Negotiated Rate Agreement to be effective 8/1/2022.

Filed Date: 7/29/22.

Accession Number: 20220729-5179.

Comment Date: 5 p.m. ET 8/10/22.

Docket Numbers: RP22-1087-000.

Applicants: Rockies Express Pipeline LLC.

Description: § 4(d) Rate Filing: REX 2022-07-29 Negotiated Rate Agreement to be effective 8/1/2022.

Filed Date: 7/29/22.

Accession Number: 20220729-5180.

Comment Date: 5 p.m. ET 8/10/22.

Docket Numbers: RP22-1088-000.

Applicants: Northern Natural Gas Company.

Description: § 4(d) Rate Filing: 20220729 Negotiated Rate to be effective 8/1/2022.

Filed Date: 7/29/22.

Accession Number: 20220729-5201.

Comment Date: 5 p.m. ET 8/10/22.

Docket Numbers: RP22-1089-000.

Applicants: Transcontinental Gas Pipe Line Company, LLC.

Description: § 4(d) Rate Filing: Negotiated Rates—Cherokee AGL—Replacement Shippers—Aug 2022 to be effective 8/1/2022.

Filed Date: 7/29/22.

Accession Number: 20220729-5225.

Comment Date: 5 p.m. ET 8/10/22.

Docket Numbers: RP22-1090-000.

Applicants: Equitrans, L.P.

Description: § 4(d) Rate Filing: Negotiated Rate Capacity Release Agreements—8/1/2022 to be effective 8/1/2022.

Filed Date: 8/1/22.

Accession Number: 20220801-5030.

Comment Date: 5 p.m. ET 8/15/22.

Docket Numbers: RP22-1091-000.

Applicants: Alliance Pipeline L.P.

Description: § 4(d) Rate Filing: Negotiated Rates—Various Aug 1 2022 Releases to be effective 8/1/2022.

Filed Date: 8/1/22.

Accession Number: 20220801-5034.

Comment Date: 5 p.m. ET 8/15/22.

Docket Numbers: RP22-1092-000.

Applicants: NEXUS Gas Transmission, LLC.

Description: § 4(d) Rate Filing: Negotiated Rates—Various Releases eff 8-1-2022 to be effective 8/1/2022.

Filed Date: 8/1/22.

Accession Number: 20220801-5087.

Comment Date: 5 p.m. ET 8/15/22.

Docket Numbers: RP22-1093-000.

Applicants: Equitrans, L.P.

Description: § 4(d) Rate Filing: Remove Terminated Agreement—8/31/2022 to be effective 9/1/2022.

Filed Date: 8/1/22.

Accession Number: 20220801-5109.

Comment Date: 5 p.m. ET 8/15/22.

Docket Numbers: RP22-1094-000.

Applicants: Texas Eastern Transmission, LP.

Description: § 4(d) Rate Filing: Negotiated Rates—Various Releases eff 8-1-22 to be effective 8/1/2022.

Filed Date: 8/1/22.

Accession Number: 20220801-5114.

Comment Date: 5 p.m. ET 8/15/22.

Docket Numbers: RP22-1095-000.

Applicants: Natural Gas Pipeline Company of America LLC.

Description: § 4(d) Rate Filing: Limited Section 4 to Adjust Fuel Gas and L&U Retention Factors 2022 to be effective 9/1/2022.

Filed Date: 8/1/22.

Accession Number: 20220801-5116.

Comment Date: 5 p.m. ET 8/15/22.

Docket Numbers: RP22-1096-000.

Applicants: Natural Gas Pipeline Company of America LLC.

Description: § 4(d) Rate Filing: Negotiated Rate Agreement Filing-ConocoPhillips Company to be effective 8/1/2022.

Filed Date: 8/1/22.

Accession Number: 20220801-5119.

Comment Date: 5 p.m. ET 8/15/22.

Docket Numbers: RP22-1097-000.

Applicants: Natural Gas Pipeline Company of America LLC.

Description: § 4(d) Rate Filing: Negotiated Rate Agreement Filing-Morgan Stanley Capital to be effective 9/1/2022.

Filed Date: 8/1/22.

Accession Number: 20220801-5122.

Comment Date: 5 p.m. ET 8/15/22.

Docket Numbers: RP22-1098-000.

Applicants: Gulf South Pipeline Company, LLC.

Description: § 4(d) Rate Filing: Cap Rel Neg Rate Agmt (Osaka 46429 to Spotlight 55496) to be effective 8/1/2022.

Filed Date: 8/1/22.

Accession Number: 20220801-5139.

Comment Date: 5 p.m. ET 8/15/22.

Docket Numbers: RP22-1099-000.

Applicants: El Paso Natural Gas Company, L.L.C.

Description: § 4(d) Rate Filing: Negotiated Rate Agreement Update (Conoco August 1 2022) to be effective 8/1/2022.

Filed Date: 8/1/22.

Accession Number: 20220801-5159.

Comment Date: 5 p.m. ET 8/15/22.

Docket Numbers: RP22-1100-000.

Applicants: Texas Gas Transmission, LLC.

Description: § 4(d) Rate Filing: Cap Rel Neg Rate Agmt (JayBee 34447 to MacQuarie 53800) to be effective 8/1/2022.

Filed Date: 8/1/22.

Accession Number: 20220801-5163.

Comment Date: 5 p.m. ET 8/15/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2022.
Debbie-Anne A. Reese,
Deputy Secretary.

[FR Doc. 2022-16919 Filed 8-5-22; 8:45 am]

BILLING CODE 6717-01-P